GOVERNMENT PRINTING OFFICE

Depository Library Council to the Public Printer; Meeting

The Depository Library Council to the Public Printer (DLC) will meet on Monday, October 18, 2010, through Wednesday, October 20, 2010, in Arlington, Virginia. The sessions will take place from 8 a.m. to 5:30 p.m. on Monday through Tuesday, and Wednesday, 8 a.m. to 12 p.m. The meeting will be held at the Doubletree Hotel Crystal City, located at 300 Army Navy Drive, Arlington, VA. The purpose of this meeting is to discuss the Federal Depository Library Program. All sessions are open to the public. The sleeping rooms available at the Doubletree Hotel will be at the Government rate of $229.00 (plus applicable state and local taxes, currently 10.25%) a night for a single or double. The Doubletree is in compliance with the requirements of Title III of the Americans with Disabilities Act and meets all Fire Safety Act regulations.

Robert C. Tapella,
Public Printer of the United States.

[FR Doc. 2010-25047 Filed 10-5-10; 8:45 am]

BILLING CODE 1520-01-P